DEPARTMENT OF COMMERCE

Foreign-Trade Zones Board

[(B-32-2012)]

Foreign-Trade Zone 129—Bellingham, WA; Application for Reorganization Under Alternative Site Framework

An application has been submitted to the Foreign-Trade Zones (FTZ) Board (the Board) by the Port of Bellingham, grantee of FTZ 129, requesting authority to reorganize the zone under the alternative site framework (ASF) adopted by the Board (74 FR 1170, 1/12/2009 (correction 74 FR 3987, 1/22/2009); 75 FR 71069-71070, 11/22/2010). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on May 1, 2012.

FTZ 129 was approved by the Board on September 4, 1986 (Board Order 335, 51 FR 32238, 09/10/1986) and expanded on November 16, 1992 (Board Order 608, 57 FR 56902, 12/01/1992).

The current zone project includes the following sites: Site 1 (300 acres)—Airport Industrial Development Area, 3 parcels as follows: Parcel A, Noranda Industrial Site, Curtis Road at the Burlington Northern Rail Line, Bellingham (20 acres); Parcel B, Airport Industrial Park at Bellingham International Airport and additional acreage located at 300 and 365 Harris Avenue, Bellingham (120 acres); Parcel C, Washington State Department of Natural Resources site, located immediately adjacent to the eastern boundary of Parcel A, Bellingham (160 acres); and, Site 3 (270 acres)—Cherry Point Industrial Park, Kickerville Road, Henry Road and Gulf Road, Ferndale.

The grantee's proposed service area under the ASF would be Whatcom County, Washington, as described in the application. If approved, the grantee would be able to serve sites throughout the service area based on companies' needs for FTZ designation. The proposed service area is within and adjacent to the Blaine, Washington U.S. Customs and Border Protection port of entry.

The Port of Bellingham is also the grantee of FTZ 130, located in Blaine, Washington, and FTZ 131, located in Sumas, Washington, both of which are located within Whatcom County. As part of the ASF reorganization process, the grantee is requesting authority to merge the FTZ 130 and FTZ 131 zone projects under FTZ 129. FTZ 130 was approved by the Board on September 4, 1986 (51 FR 32238, 09/10/1986) and expanded on January 11, 1993 (Board Order 627, 58 FR 5356, 01/21/1993). FTZ 131 was approved by the Board on September 4, 1986 (51 FR 32238, 09/10/1986).

The applicant is requesting authority to reorganize its existing zone projects to include a portion of existing Site 1 and all of Site 3 of FTZ 129, existing Site 1 of FTZ 130, and existing Sites 1 and 2 of FTZ 131 as “magnet” sites of FTZ 129. As part of the reorganization, existing Site 1 of FTZ 130 will be renumbered as Site 4 of FTZ 129 and existing Sites 1 and 2 of FTZ 131 will be renumbered as Sites 5 and 6 of FTZ 129, respectively. Additionally, as part of the reorganization, portions of existing Site 1 of FTZ 129 and all of existing Site 2 of FTZ 130 will be removed from the merged zone project due to changed circumstances. The ASF allows for the possible exemption of one magnet site from the “sunset” time limits that generally apply to sites under the ASF, and the applicant requests that proposed Site 1 be so exempted. No usage-driven sites are being requested at this time. Because the ASF only pertains to establishing or reorganizing a general-purpose zone, the application would have no impact on FTZ 129's authorized subzones.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is July 9, 2012. Rebuttal comments in response to material submitted during the foregoing period may be submitted during the subsequent 15-day period to July 23, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Christopher Kemp at Christopher.Kemp@trade.gov or (202) 482-0862.

Dated: May 1, 2012.
Andrew McGilvray,
Executive Secretary.

[FR Doc. 2012-11049 Filed 5-7-12; 8:45 am]

BILLING CODE P